DEPARTMENT OF COMMERCE

National Oceanic and Atmospheric Administration

[I.D. 031505A]

National Marine Fisheries Service, Pacific Fishery Management Council; April 3-8, 2005, Council Meeting

AGENCY: National Marine Fisheries Service (NMFS), National Oceanic and Atmospheric Administration (NOAA), Commerce.

ACTION: Notice of public meetings.

SUMMARY: The Pacific Fishery Management Council (Council) and its advisory entities will hold public meetings. There will also be a Tuesday evening meeting between NMFS, states, and industry on the 2005 whiting exempted fishing permit and a Monday evening meeting sponsored by NMFS and the states to provide an update on the Pacific Groundfish Essential Fish Habitat EIS.

DATES: The Council and its advisory entities will meet April 3-8, 2005. The Council meeting will begin on Monday, April 4, at 3:30 p.m., reconvening each day through Friday. All meetings are open to the public, except a closed session will be held from 3:30 p.m. until 4:30 p.m. on Monday, April 4 to address litigation and personnel matters. The Council will meet as late as necessary each day to complete its scheduled business.

ADDRESSES: The meetings will be held at the Sheraton Tacoma Hotel, 1320 Broadway Plaza, Tacoma, Washington 98402; telephone: 253-572-3200.

Council address: Pacific Fishery Management Council, 7700 NE Ambassador Place, Suite 200, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks and Introductions

2. Roll Call

3. Executive Director's Report

4. Approve Agenda

C. Salmon Management

1. Identify Stocks Not Meeting Conservation Objectives

2. Methodology Review Process for 2005

3. Update on Essential Fish Habitat Review Process

4. Final Action on 2005 Salmon Management Measures

D. Pacific Halibut Management

1. Adopt Final 2005 Incidental Halibut Catch Regulations for Salmon Troll and Fixed Gear Sablefish Fisheries

E. Habitat

1. Current Habitat Issues

B. Groundfish Management

1. Vermillion Rockfish Assessment

2. Inseason Management Response Policy Final Adoption

3. NMFS Report

4. Terms of Reference for Groundfish Rebuilding Plan Review

5. Implementation of an Expanded Vessel Monitoring System

6. Status of 2005 Groundfish Fisheries and Inseason Adjustments

7. Longline Dogfish Fishery Control Date

F. Coastal Pelagic Species Management

1. NMFS Report

2. Fishery Management Plan Amendment 11-Sardine Allocation

G. Marine Protected Areas

1. Channel Islands National Marine Sanctuary (NMS), Cordell Bank NMS, Gulf of Farallones NMS, and Monterey Bay NMS Designation Document Comments and Proposed NMS Regulations

H. Enforcement Issues

1. U.S. Coast Guard Fishery Enforcement Report

I. Highly Migratory Species Management

1. NMFS Report

2. Fishery Management Plan Implementation

J. Administrative Matters

1. Report on “Managing Our Fisheries II” Conference

2. Legislative Matters

3. Appointments to Advisory Bodies, Standing Committees, and Other Forums

4. Work Load Priorities and Draft June 2005 Council Meeting Agenda

SCHEDULE OF ANCILLARY MEETINGS

SUNDAY, April 3, 2005

Klamath Fishery Management Council 3 p.m.

MONDAY, April 4, 2005

Council Secretariat 8 a.m.

Groundfish Advisory Subpanel 8 a.m.

Groundfish Management Team 8 a.m.

Salmon Advisory Subpanel 8 a.m.

Salmon Technical Team 8 a.m.

Scientific and Statistical Committee 8 a.m.

Habitat Committee 10 a.m.

Legislative Committee 10:30 a.m.

Special Session: Salmon Ocean Ecology 1 p.m.

Enforcement Consultants 4:30 p.m.

Special Session: Essential Fish Habitat

Environmental Impact Statement Review 7 p.m.

Klamath Fishery Management Council As necessary

Tribal Policy Group As necessary

Tribal and Washington Technical Group As necessary

TUESDAY, April 5, 2005

Council Secretariat 7 a.m.

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Scientific and Statistical Committee 8 a.m.

Coastal Pelagic Species Management Team 1 p.m.

Coastal Pelagic Species Advisory Subpanel 1 p.m.

Special Sessions: Whiting EFP and Video

Monitoring Briefing 7 p.m.

Enforcement Consultants As necessary

Klamath Fishery Management Council As necessary

Tribal Policy GroupAs necessary

Tribal and Washington Technical Group As necessary

WEDNESDAY, April 6, 2005

Council Secretariat 7 a.m.

California State Delegation 7 a.m.

Oregon State Delegation 7 a.m.

Washington State Delegation 7 a.m.

Coastal Pelagic Species Management Team 8 a.m.

Coastal Pelagic Species Advisory Subpanel 8 a.m.

Groundfish Advisory Subpanel 8 a.m.

Groundfish Management Team 8 a.m.

Salmon Advisory Subpanel 8 a.m.

Salmon Technical Team 8 a.m.

Enforcement Consultants As necessary

Klamath Fishery Management Council As necessary

Tribal Policy Group As necessary

Tribal and Washington Technical Group As necessary

THURSDAY, April 7, 2005

Council Secretariat 7 a.m.

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Enforcement Consultants As necessary

Tribal Policy Group As necessary

Tribal and Washington Technical Group As necessary

FRIDAY, April 8, 2005

Council Secretariat 7 a.m.

California State Delegation 7 a.m.

Oregon State Delegation 7 a.m.

Washington State Delegation 7 a.m.

Enforcement Consultants As necessary

Salmon Advisory Subpanel As necessary

Salmon Technical Team As necessary

Tribal Policy Group As necessary

Tribal and Washington Technical Group As necessary

Although nonemergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least five days prior to the meeting date.

Dated: March 15, 2005.
Emily Menashes,
Acting Director, Office of Sustainable Fisheries, National Marine Fisheries Service.

[FR Doc. E5-1182 Filed 3-17-05; 8:45 am]

BILLING CODE 3510-22-S